NATIONAL FOUNDATION ON THE ARTS AND THE HUMANITIES

National Endowment for the Humanities

Agency Information Collection Activities: Proposed Collection; Comment Request; Generic Clearance for the Collection of Qualitative Feedback on Agency Service Delivery

AGENCY: National Endowment for the Humanities, National Foundation on the Arts and the Humanities.

ACTION: 30-day notice of NEH's submission of information collection approval to the Office of Management and Budget and request for comments.

SUMMARY: As part of a Federal Government-wide effort to streamline the process to seek feedback from the public on service delivery, the National Endowment for the Humanities (NEH) has submitted a Generic Information Collection Request (Generic ICR): “Generic Clearance for the Collection of Qualitative Feedback on Agency Service Delivery” to the Office of Management and Budget (OMB) for approval under the Paperwork Reduction Act (PRA) (44 U.S.C. 3501 et. seq.).

DATES: Comments on this information collection must be submitted on or before October 22, 2015.

ADDRESSES: Mail comments to the Office of Information and Regulatory Affairs, Attn: OMB Desk Officer for the National Endowment for the Humanities, Office of Management and Budget, Room 10235, Washington, DC 20503; (202) 395-7316.

FOR FURTHER INFORMATION CONTACT: Mr. Michael McDonald, General Counsel at gencounsel@neh.gov or by mail to 400 7th Street SW., 4th Floor, Washington, DC 20506.

SUPPLEMENTARY INFORMATION:

Title: Generic Clearance for the Collection of Qualitative Feedback on Agency Service Delivery.

Abstract: NEH is submitting a new information collection—in the form of a generic clearance—that will allow NEH to receive fast-track approval from OMB when NEH wishes to seek feedback from the public about NEH events and programs. With this generic clearance NEH will be able to garner qualitative customer and stakeholder feedback in an efficient, timely manner, in accordance with the Administration's commitment to improving service delivery by Federal agencies to the public. By qualitative feedback we mean information that provides useful insights on people's opinions of NEH programs, events, publications, products and other services NEH provides to the public. This qualitative feedback will:

• Provide NEH with insights into customer or stakeholder perceptions, experiences and expectations,

• Provide NEH with an early warning of issues with service, and

• Focus agency attention on areas where communication, training or changes in operations might improve delivery of NEH products or services.

NEH will solicit feedback in areas such as: Timeliness, appropriateness, accuracy of information, courtesy, efficiency of service delivery, and resolution of issues with service delivery. NEH will use the responses to plan and to improve the quality of service and programs offered to the public.

For every customer survey or other information collection under this generic clearance, NEH will use the information gathered internally only for general service improvement and program management purposes and does not intend to release the information outside of the agency. NEH will not gather information for the purpose of substantially informing influential policy decisions. NEH will only gather data in a way designed to yield qualitative information, not statistically reliable results or results meant to be generalizable to the population of study.

NEH received no comments in response to the 60-day notice published in the Federal Register on July 2, 2015 (80 FR 38235).

Current Actions: New collection of information.

Type of Review: New Collection.

Affected Public: Individuals and Households, Businesses and Organizations, State, Local or Tribal Governments.

Below we provide NEH's projected average estimates for the next three years. The formula used to calculate the total burden hours is “estimated average time per responses” times “annual responses.”

Average Expected Annual Number of Activities: 4.

Estimated Number of Respondents: 10,000.

Estimated Annual Number of Responses per Respondent: Once per request.

Estimated Total Annual Responses: 10,000.

Estimated Average Time per Response: 15 minutes (0.25 hours).

Estimated Total Annual Burden Hours: 2,500 hours.

NEH is requesting OMB approval for three years. There are no costs to respondents other than their time.

Dated: September 16, 2015.
Margaret F. Plympton,
Deputy Chairman.

[FR Doc. 2015-24091 Filed 9-21-15; 8:45 am]

BILLING CODE 7536-01-P